DEPARTMENT OF TRANSPORTATION

Federal Aviation Administration

Approval of Noise Compatibility Program for Pago Pago International Airport, American Samoa

AGENCY: Federal Aviation Administration, DOT.

ACTION: Notice.

SUMMARY: The Federal Aviation Administration (FAA) announces its findings on the noise compatibility program submitted by the Department of Port Administration of the American Samoa Government under the provisions of Title I of the Aviation Safety and Noise Abatement Act, as amended, (Pub. L. 96-193) (hereinafter referred to as “the Act”) and 14 CFR part 150. These findings are made in recognition of the description of Federal and nonfederal responsibilities in Senate Report No. 96-52 (1980). On January 28, 2005, the FAA determined that the noise exposure maps submitted by Department of Port Administration of the American Samoa Government under Part 150 were in compliance with applicable requirements.

DATES: The effective date of the FAA's approval of the Noise Compatibility Program for Pago Pago International Airport is July 21, 2005.

FOR FURTHER INFORMATION CONTACT: Gordon Wong, Project Manager, Honolulu Airports District Office, Airports Division, Western-Pacific Region, Federal Aviation Administration, 300 Ala Moana Boulevard, 7-128, Honolulu, Hawaii 96850. Telephone: 808/541-3565. Documents reflecting this FAA action may be reviewed at this same location.

SUPPLEMENTARY INFORMATION: This notice announces that the FAA has given its overall approval to the Noise Compatibility Program for Pago Pago International Airport, effective July 21, 2005. Under section 104(a) of the Aviation Safety and Noise Abatement Act of 1979, as amended (herein after referred to as the “Act”) [recodified as 49 U.S.C. 47504], an airport operator who has previously submitted a Noise Exposure Map may submit to the FAA a Noise Compatibility Program which sets forth the measures taken or proposed by the airport operator for the reduction of existing non-compatible land uses and prevention of additional non-compatible land uses within the area covered by the Noise Exposure Maps. The Act requires such programs to be developed in consultation with interested and affected parties including local communities, government agencies, airport users, and FAA personnel.

Each airport noise compatibility program developed in accordance with Federal Aviation Regulations (FAR) Part 150 is a local program, not a Federal program. The FAA does not substitute its judgment for that of the airport proprietor with respect to which measures should be recommended for action. The FAA's approval or disapproval of FAR Part 150 program recommendations is measured according to the standards expressed in Part 150 and the Act and is limited to the following determinations:

a. The Noise Compatibility Program was developed in accordance with the provisions and procedures of FAR Part 150;

b. Program measures are reasonably consistent with achieving the goals of reducing existing non-compatible land uses around the airport and preventing the introduction of additional non-compatible land uses;

c. Program measures would not create an undue burden on interstate or foreign commerce, unjustly discriminate against types or classes of aeronautical uses, violate the terms of airport grant agreements, or intrude into areas preempted by the Federal Government; and

d. Program measures relating to the use of flight procedures can be implemented within the period covered by the program without derogating safety, adversely affecting the efficient use and management of the navigable airspace and air traffic control systems, or adversely affecting other powers and responsibilities of the Administrator prescribed by law.

Specific limitations with respect to FAA's approval of an airport noise compatibility program are delineated in FAR Part 150, Section 150.5. Approval is not a determination concerning the acceptability of land uses under Federal, state, or local law. Approval does not by itself constitute an FAA implementing action. A request for Federal action or approval to implement specific noise compatibility measures may be required, and an FAA decision on the request may require an environmental assessment of the proposed action. Approval does not constitute a commitment by the FAA to financially assist in the implementation of the program nor a determination that all measures covered by the program are eligible for grant-in-aid funding from the FAA under the Airport and Airway Improvement Act of 1982, as amended. Where federal funding is sought, requests for project grants must be submitted to the FAA Airports District Office in Honolulu, Hawaii.

The Department of Port Administration of the American Samoa Government submitted to the FAA on December 9, 2004, the Noise Exposure Maps, descriptions, and other documentation produced during the noise compatibility planning study conducted from June 2, 2003 through December 9, 2004. The Pago Pago International Airport Noise Exposure Maps were determined by FAA to be in compliance with applicable requirements on January 28, 2005. Notice of this determination was published in the Federal Register on February 8, 2005.

The Pago Pago International Airport study contains a proposed noise compatibility program comprised of actions designed for phased implementation by airport management and adjacent jurisdictions from (December 9, 2004 to beyond the year 2010). It was requested that the FAA evaluate and approve this material as a Noise Compatibility Program as described in 49 U.S.C. § 47504 (formerly Section 104(b) of the Act). The FAA began its review of the program on January 28, 2005 and was required by a provision of the Act to approve or disapprove the program within 180 days (other than the use of new or modified flight procedures for noise control). Failure to approve or disapprove such program within the 180-day period shall be deemed to be an approval of such program.

The submitted program contained ten (10) proposed actions for noise abatement, land use management and program management on and off the airport. The FAA completed its review and determined that the procedural and substantive requirements of the Act and FAR Part 150 have been satisfied. The overall program was approved, by the Associate Administrator for Airports, effective July 21, 2005.

Outright approval was granted for all ten (10) specific program measures. The approved measures included such items as: increase the use of Runway 8 for propeller arrivals; Amend the Draft Tualuata County Land Use Plan by adopting the Part 150 NCP as the airport noise compatibility element in the plan; Delineate an Airport Influence Area that would be incorporated in local comprehensive plans to show local planners the area around Pago Pago International Airport (PPG) that is subject to aircraft noise and periodic overflights; Initiate a formal request from the Director of Port Administration to the Department of Commerce requesting that the Assistant Director of Port Administration be formally notified for comment on all minor and major projects involving land use and zoning changes, and construction applications that the Territorial Planning Commission, Zoning Board, and Project Notification Review System (PNRS) Board receives for future development within the Airport Influence Area; During the Project Notification Review System (PNRS) review of land use permit applications, provide fair disclosure of potential noise exposure and aircraft overflights for those projects proposed within the Airport Influence Area; Offer a program of sound insulation to eligible single-family residences in the Future (2010) NEM/NCP 65+ DNL noise contour; Offer a program of voluntary acquisition to eligible single-family residences that do not meet the eligibility criteria for sound insulation within the Future (2010) NEM/NCP 65+ DNL noise contour on the north side of the Runway 5 end; Establish a new airport staff position within the Department of Port Administration, a Community Relations and Program Manager, that would be responsible for implementing the NCP; Monitoring compliance with noise abatement air traffic measures, update the airport noise contours (NEMs), and implementation assistance with the land use planning measures; and NCP review and evaluation for potential revision/update.

These determinations are set forth in detail in the Record of Approval signed by the Associate Administrator for Airports on July 21, 2005. The Record of Approval, as well as other evaluation materials and the documents comprising the submittal, are available for review at the FAA office listed above and at the administrative offices of the Department of Port Administration of the American Samoa Government. The Record of Approval also will be available online at: http://www.faa.gov/arp/environmental/14cfr150/index14.cfm.

Issued in Hawthorne, California, on August 12, 2005.
Mark A. McClardy,
Manager, Airports Division, Western-Pacific Region, AWP-600.

[FR Doc. 05-17061 Filed 8-26-05; 8:45 am]

BILLING CODE 4910-13-M